DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by November 24, 2004.

Title, Form, and OMB Number: Tender of service and Letter of Intent for Personal Property Household Goods and Unaccompanied Baggage Shipments; DD Form 619, Statement of Accessorial Services Performed and DD Form 619-1, Statement of Accessorial Services Performed (Storage-In-Transit Delivery and Reweigh); OMB Control Number 0702-0022.

Type of Request: Reinstatement.

Number of Respondents: 2,636.

Responses Per Respondent: 168 (average).

Annual Responses: 441,677.

Average Burden Per Response: 5 minutes.

Annual Burden Hours: 70,548.

Needs and Uses: Since household goods (HHG) move at Government expense, data is needed to choose the best service at the lowest cost to the Government. The information provided by the carrier serves as a bid for contract to transport HHG, unaccompanied baggage, mobile homes, and boats. This information is collected on a regular basis, but is submitted intermittently throughout the year. Best-service-for-least-cost carrier received the contract. DD Form 619 certified that accessorial services were actually performed. The government would not know which carrier to use for shipping personal property if they could not collect this information.

Affected Public: Businesses or other for profit.

Frequency: On occasion.

Respondent's Obligation: Required to obtain or retain benefits.

OMB Desk Officer: Ms. Jacqueline Zeiher. Written comments and recommendations on the proposed information collection should be sent to Ms. Zeiher at the Office of Management and Budget, Desk Officer for DoD, Room 10236, New Executive Office Building, Washington, DC 20503.

DOD Clearance Officer: Mr. Robert Cushing. Written requests for copies of the information collection proposal should be sent to Mr. Cushing, WHS/ESCD/Information Management Division, 1225 South Clark Street, Suite 504, Arlington, VA 22202-4326.

Dated: October 5, 2004.
Patricia L. Toppings,
Alternate OSD Federal Register Liaison Officer, Department of Defense.

[FR Doc. 04-23762 Filed 10-22-04; 8:45 am]

BILLING CODE 5001-06-M